DEPARTMENT OF HOMELAND SECURITY

Federal Emergency Management Agency

[Docket ID FEMA-2014-0016]

Assistance to Firefighters Grant Program; Fire Prevention and Safety Grants

AGENCY: Federal Emergency Management Agency, DHS.

ACTION: Notice of guidance.

SUMMARY: This Notice provides guidelines that describe the application process for grants and the criteria for awarding Fire Prevention and Safety (FP&S) grants in the fiscal year (FY) 2013 Assistance to Firefighters Grant (AFG) Program year. It explains the differences, if any, between these guidelines and those recommended by representatives of the Nation's fire service leadership during the annual Criteria Development meeting, which was held December 13-14, 2012. The application period for the FY 2013 FP&S Grant Program year was held February 18-March 21, 2014, and was announced on www.grants.gov. Approximately 1,200 applications for FP&S Grant Program funding were submitted electronically, using the application submission form and process available at https://portal.fema.gov. The “FY 2013 Fire Prevention and Safety Program Funding Opportunity Announcement” was published on the AFG Web site (www.fema.gov/firegrants). Additional information to assist applicants was provided on the AFG Web site, including an applicant tutorial, list of frequently asked questions, a “Get Ready Guide, and a Quick Reference Guide.” The FP&S Grant Program is composed of two eligible activities; the Fire Prevention and Safety (FP&S) Activity and Firefighter Research and Development (R&D) Activity. FP&S Grants are made available directly to fire departments; national, regional, state, and local organizations; native American tribal organizations, and nonprofit organizations that are recognized for their experience in fire prevention and safety programs and activities. The grant program's authorizing statute requires that a minimum of 10 percent of available grant funds for AFG be expended for the FP&S Grant Program.

Authority: 15 U.S.C. 2229.

DATES: Grant applications for the FP&S Grant Program were accepted electronically at https://portal.fema.gov, from February 18-March 21, 2014.

ADDRESSES: Assistance to Firefighters Grants Branch, Stop 3620, DHS/FEMA, 800 K Street NW., Washington, DC 20472-3620.

FOR FURTHER INFORMATION CONTACT: Catherine Patterson, Chief, Assistance to Firefighters Grants Branch, 1-866-274-0960.

SUPPLEMENTARY INFORMATION: The purpose of the AFG Program is to enhance the safety of the public and firefighters with respect to fire and fire-related hazards. The FEMA Grant Programs Directorate administers the FP&S Grant Program as part of the AFG Program.

FP&S Grants are offered to support projects in two activities:

1. Activities designed to reach high-risk target groups and mitigate the incidence of death and injuries caused by fire and fire-related hazards (“FP&S Activity”).

2. Projects aimed at improving firefighter safety, health and wellness through research and development that reduces firefighter fatalities and injuries (“R&D Activity”)

The grant program's authorizing statute requires that each year DHS publish in the Federal Register the guidelines that describe the application process and the criteria for grant awards.

Approximately 1,200 applications for FP&S Grant Program funding were submitted electronically, using the application submission form and process available at the AFG e-Grant application portal: https://portal.fema.gov. Specific information about the submission of grant applications can be found in the “FY 2013 Fire Prevention and Safety Program Funding Opportunity Announcement,” which is available for download at www.fema.gov/firegrants and at www.regulations.gov under Docket ID FEMA-2014-0016.

Appropriations

Congress appropriated $320,920,083 for AFG in FY 2013 pursuant to the Department of Homeland Security Appropriations Act, 2013, Public Law 113-6. From this amount, $32,092,008 will be made available for FP&S Grant awards, pursuant to 15 U.S.C. 2229(h)(5), which states that not less than 10 percent of available grant funds each year are awarded under the FP&S Grant Program. Funds appropriated for all FY 2013 AFG awards, pursuant to Public Law 113-6, will be available for obligation and award until September 30, 2014.

From the approximately 1,200 applications that were submitted requesting assistance, FEMA anticipates that it will award approximately 250 FP&S Grants from available grant funding.

Background of the AFG Program

DHS awards grants on a competitive basis to the applicants that best address the FP&S Grant Program's priorities and provide the most compelling justification. Applications that best address the Program's priorities will be reviewed by a panel composed of fire service personnel. All applications for grants will be prepared and submitted through the AFG e-Grant application portal (https://portal.fema.gov).

Award Criteria

The FP&S Grant Program panels will review the applications and score them using the following criteria areas:

• Vulnerability

• Implementation

• Evaluation Plan

• Cost Benefit

• Sustainability

• Financial Need

• Experience and Expertise (additional consideration)

• Performance (additional consideration)

• Funding Priorities

The applications submitted under the R&D Activity will be reviewed first by a panel of fire service members to identify those applications most relevant to the fire service, and then by technology and science experts. The following evaluation criteria will be used for each review:

The Scientific Technical Evaluation Panel for the R&D Activity will review the application and evaluate it using the following criteria:

• Project purpose(s), goals and objectives, and specific aims

• Literature Review

• Project Methods

• Project Measurements

• Project Analysis

• Resources—People and Facilities

• Dissemination and Implementation

• Cost vs. Benefit (additional consideration)

• Financial Need (additional consideration

The Fire Service Technical Evaluation Panel for the R&D Activity will review the application and evaluate it using the following criteria:

• Purpose

• Potential Impact

• Implementation by the fire service

• Partners

• Barriers

Eligible Applicants

The following entities are eligible to apply directly to FEMA under this solicitation:

1. Fire Prevention and Safety (FP&S) Activity: Eligible applicants for this activity include fire departments, national, regional, State, local, Native American tribal organizations, and nonprofit organizations that are recognized for their experience and expertise in fire prevention and safety programs and activities. Both private and public non-profit organizations are eligible to apply for funding in this activity. For-profit organizations, Federal agencies, and individuals are not eligible to receive a FP&S Grant Award under the F&S Activity.

2. Firefighter Safety Research and Development (R&D) Activity: Eligible applicants for this activity include national, State, local, Native American tribal organizations, and nonprofit organizations, such as academic (e.g., universities), public health, occupational health, and injury prevention institutions. Both private and public non-profit organizations are eligible to apply for funding in this activity.

The aforementioned entities are encouraged to apply, especially those that are recognized for their experience and expertise in firefighter safety, health, and wellness research and development activities. Under the grant program's authorizing statute, fire departments are not eligible to apply for funding in the R&D activity. Additionally, for-profit organizations, Federal agencies, and individuals are not eligible to receive a grant award under the R&D Activity.

Statutory Limits to Funding

Applications and awards are limited to a maximum Federal share of $1.5 million dollars, regardless of applicant type.

Cost Sharing

Grantees must share in the costs of the projects funded under this grant program as required by 15 U.S.C. 2229(k)(1) and in accordance with 44 CFR 13.24 and 2 CFR 215.23, but they are not required to have the cost-share at the time of application nor at the time of award. However, before a grant is awarded, FEMA will contact potential awardees to determine whether the grantee has the funding in hand or if the grantee has a viable plan to obtain the funding necessary to fulfill the cost-sharing requirement.

All eligible applicants must provide a cost match of 5 percent of non-Federal funds, unless the matching requirement is modified by a waiver, subject to waiver eligibility as described below. Cash match and in-kind matches are both allowable in the FP&S Grant Program.

Cash (hard) matches include non-Federal cash spent for project-related costs. In-kind matches are allowable for the FP&S Grant Program. In-kind (soft) matches include, but are not limited to, the valuation of in-kind services. In-kind is the value of something received or provided that does not have a cost associated with it. For example, where an in-kind match (other than cash payments) is permitted, then the value of donated services could be used to comply with the match requirement. Also, third party in-kind contributions may count toward satisfying match requirements provided the grantee receiving the contributions expends them as allowable costs in compliance with provisions listed above.

Grantees under this grant program must also agree to a maintenance of effort requirement as required by 15 U.S.C. 2229(k)(3) (referred to as a “maintenance of expenditure” requirement in that statute). Per this requirement, a grantee shall agree to maintain during the term of the grant the applicant's aggregate expenditures relating to the activities allowable under the FP&S Funding Opportunity Announcement at not less than 80 percent (80%) of the average amount of such expenditures in the two (2) fiscal years preceding the fiscal year in which the grant amounts are received.

In cases of demonstrated economic hardship, and on the application of the grantee, the Administrator of FEMA may waive or reduce certain grantees' cost share or maintenance of expenditure requirements. The Administrator of FEMA shall establish and publish guidelines for determining what constitutes economic hardship. Per 15 U.S.C. 2229(k)(4)(C), FP&S Grantees that are not fire departments are not eligible to receive a waiver of their cost share or economic hardship requirements.

System for Award Management (SAM)

On July 29, 2010, the Central Contractor Registration (CCR) was moved into the System for Award Management (SAM). The Office of Management and Budget (OMB) issued guidance to Federal agencies requiring all prime recipients of Federal grants to register in SAM. SAM is the primary vendor database for the Federal Government to collect, validate, store, and disseminate data from a secure centralized system. SAM consolidated the capabilities found in CCR and other Federal procurement systems into one new system.

There is no charge to register in SAM.gov. Registrations must be completed on-line at https://www.sam.gov/portal/public/SAM/. The applicant organization is responsibile for having a valid DUNS number at the time of registration. Organizations with an active record in CCR have an active record in SAM but may need to validate their information. For registration, go to https://www.sam.gov/portal/public/SAM/.

Application Process

Applicants may only submit one (1) application, but may submit for up to three (3) projects under each activity (FP&S and R&D). Any applicant that submits more than one (1) application, and requests the same activities, may have all applications for any duplicated request(s) deemed ineligible.

Under the FP&S Activity, applicants may apply under the following categories:

• General Education/Awareness;

• Fire & Arson Investigation;

• Code Enforcement/Awareness;

• National/State/Regional Programs and Studies.

Under the R&D Activity, applicants may apply under the following categories:

• Clinical Studies;

• Technology and Product Development;

• Database System Development;

• Dissemination and Implementation Research;

• Preliminary Studies.

Prior to the start of the FY 2013 FP&S Grant Program application period, FEMA provided applicants with technical assistance tools (available at the AFG Web site: www.fema.gov/firegrants) and other online information to help them prepare quality grant applications. AFG also staffed a Help Desk throughout the application period to assist applicants with navigation through the automated application as well as assistance with any questions they have. Applicants can reach the AFG Help Desk through a toll-free telephone number (1-866-274-0960) or electronic mail (firegrants@dhs.gov).

Applicants were advised to access the application electronically at https://portal.fema.gov. The application also was accessible from the grants.gov Web site (http://www.grants.gov). New applicants were required to register and establish a username and password for secure access to their application. Applicants that applied to any previous AFG funding opportunities were required to use their previously established usernames and passwords.

In completing the application in the FP&S Activity, applicants are asked to provide relevant information on their organization's characteristics and existing capabilities. Those applicants are asked to answer questions about their grant request that reflect the FP&S Activity funding priorities, described below. In addition, each applicant completed narratives for each project or grant activity requested.

The following are the funding priorities for each category under the FP&S Activity:

• General Education/Awareness—programs that target high risk population to conduct both door-to-door smoke alarm installations and provide home safety inspections (including sprinkler awareness), as part of a comprehensive home fire safety campaign.

• Code Enforcement/Awareness—projects that focus on first time or reinstatement of code adoption and code enforcement.

• Fire & Arson Investigation—projects that aim to investigate aggressively every fire.

• National/State/Regional Programs and Studies—projects that focus on residential fire issues and/or firefighter behavior and decision-making.

In completing an application under the R&D Activity, applicants are asked to provide relevant information on their organization's characteristics and existing capabilities. Applicants are asked to answer questions about their grant request that reflect the R&D Activity funding priorities, which are described below. In addition, each applicant completed narratives for each project or grant activity requested.

Under the R&D Activity, in order to identify and address the most important elements of firefighter safety, FEMA looked to the fire service for its input and recommendations. In June 2005, the National Fallen Firefighters' Foundation (NFFF) hosted a working group to facilitate the development of an agenda for the nation's fire service, and in particular for firefighter safety. In May 2011, the NFFF again hosted a working group to update the agenda with current priorities. A copy of the research agenda is available on the NFFF Web site at http://www.everyonegoeshome.com/symposium.html.

Projects that meet the intent of this research agenda with respect to firefighter health and safety, as identified by the NFFF working group, will be given consideration under the R&D Activity. However, the applicant is not limited to these specific projects. All proposed projects, regardless of whether they have been identified by this working group, will be evaluated on their relevance to firefighter health and safety and scientific rigor.

The electronic application process will permit the applicant to enter and save the application data. The system does not permit the submission of incomplete applications. Except for the narrative textboxes, the application will use a “point-and-click” selection process or require the entry of data (e.g., name and address). Applicants will be encouraged to read the FP&S Funding Opportunity Announcement for more details.

Criteria Development Process

Each year, DHS convenes a panel of fire service professionals to develop the funding priorities and other implementation criteria for AFG. The Criteria Development Panel is comprised of representatives from nine major fire service organizations who are charged with making recommendations to FEMA regarding the creation of new funding priorities and the modification of existing funding priorities as well as developing criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2013 criteria development panel meeting occurred December 13-14, 2012. The content of the FY 2013 FP&S Funding Opportunity Announcement reflects the implementation of the Criteria Development Panel's recommendations with respect to the priorities, direction, and criteria for awards. All of the funding priorities for the FY 2013 FP&S Grant Program are designed to address the following:

• First responder safety

• Enhancing national capabilities

• Risk

• Interoperability

Changes for FY 2013

FY 2013 FP&S Funding Opportunity Announcement

(1) The “Guidance and Application Kit” has been reformatted to match the DHS Funding Opportunity Announcement (FOA) template.

(2) A question was added to the application under the FP&S Activity to ascertain how the proposed project addresses prevention and survivability from fire.

(3) Applications and awards are now limited to a maximum federal share of $1.5 million dollars, regardless of applicant type. In FY2012 the maximum federal share was $1 million dollars, regardless of applicant type.

(4) The cost share requirement is now 5% for all eligible applicants for both FP&S and R&D Activities regardless of population size or applicant type.

(5) Cash and in-kind cost matching is allowable in FY2013 whereas in FY2012 the only type of allowable match was cash.

(6) The evaluation criteria under the R&D Activity have been modified and now clarifies that all applications will first be preliminarily evaluated by a fire service panel and then those applications deemed “most relevant” will move forward to a scientific evaluation panel. Modifications under the scientific evaluation criteria include removing “Partners” as a criteria and moving it to be evaluated by the fire service panel. In addition, the weight of both the “project measurements” and “dissemination and implementation” criteria were then modified from ten percent to fifteen percent.

Changes to Criteria Development Panel Recommendations

DHS must explain any differences between the published guidelines and the recommendations made by the criteria development panel and publish this information in the Federal Register prior to making any grants under the Program (15 U.S.C. 2229(b)(14)). For FY 2013, DHS accepted and is implementing all of the Criteria Development Panel's recommendations.

Application Review Process and Considerations

The program's authorizing statute requires that each year DHS publish in the Federal Register a description of the grant application process and the criteria for grant awards. This information is provided below.

DHS will review and evaluate all FP&S applications submitted using the funding priorities and evaluation criteria described in this document, which are based on recommendations from the AFG Criteria Development Panel. FEMA will rank all submitted applications based on how well they match the funding priorities for the type of community served. Answers to the application's activity-specific questions provide information used to determine each application's ranking relative to the stated priorities.

Peer Review Process

Technical Evaluation Process—Fire Prevention and Safety Activity

All eligible applications will be evaluated by a Technical Evaluation Panel (TEP). The TEP is comprised of a panel of Peer Reviewers. The TEP will assess each application's merits with respect to the detail provided in the Narrative Statement on the activity, including the evaluation elements listed in the Evaluation Criteria identified above.

The panel of Peer Reviewers will independently score each project within the application, discuss the merits and/or shortcomings of the application, and document the findings. A consensus is not required. The highest ranked applications will receive further technical review to assess strengths and weaknesses, how readily weaknesses may be resolved, and the likely impact of the proposed activities on the safety of the target audience.

Technical Evaluation Process—Research and Development Activity

R&D applications will go through a two-phase review process. First, all applications will be reviewed by a panel of fire service experts to assess relevance, meaning the likely impact of the proposed R&D application to enable improvement in firefighter safety, health, or wellness. They will also assess the need for the research results and the likelihood that the results would be implemented by the fire service in the U.S. Applications that are deemed likely to be implemented to enable improvement in firefighter safety, health, or wellness will then receive further consideration by a science review panel. This panel will be comprised of scientists and technology experts who have expertise pertaining to the subject matter of the proposal.

Reviewers will independently score applications and, if necessary, discuss the merits or shortcomings of the application in order to reconcile any major discrepancies identified by the reviewers. A consensus is not required.

With input from these panels, for the highest ranked applications, FEMA will review each application's strengths and weaknesses, how best the strengths fit the priorities of the FP&S Program, and how readily the weaknesses may be resolved to support likely impact of the project to improve firefighter safety, heath, or wellness.

Technical Review Process

Projects receiving the highest scores then will undergo a technical review by a subject matter specialist to assess the technical feasibility of the project and a programmatic review to assess eligibility and other factors.

DHS generally makes funding decisions using rank order resulting from the panel evaluation. However, DHS may deviate from rank order and make funding decisions based on the type of department (career, combination, or volunteer) and/or the size and character of the community the applicant serves (urban, suburban, or rural) to the extent it is required to satisfy statutory provisions.

After the completion of the technical reviews, DHS will select a sufficient number of awardees from this application period to obligate all of the available grant funding. It will evaluate and act on applications within 90 days following the close of the application period. Award announcements will be made on a rolling basis until all available grant funds have been committed. Awards will not be made in any specified order. DHS will notify unsuccessful applicants as soon as it is feasible.

Application Review Considerations

The governing statute requires that each year DHS publish in the Federal Register a description of the grant application process and the criteria for grant awards. This information is provided below.

Evaluation Criteria for Projects—Fire Prevention and Safety Activity

Funding decisions will be informed by an assessment of how well the application addresses the criteria and considerations listed below. Applications will be reviewed by the TEP using weighted evaluation criteria to score the project. These scores will impact the ranking of a project for funding.

The relative weight of the evaluation criteria in the determination of the grant award is listed below.

• Vulnerability Statement (20%): The assessment of fire risk is essential in the development of an effective project goal, as well as meeting FEMA's goal to reduce risk by conducting a risk analysis as a basis for action. Vulnerability is a “weak link” demonstrating high risk behavior, living conditions or any type of high risk situation or behavior. The Vulnerability Statement should include a description of the steps taken to determine the vulnerability (weak link) and identify the target audience. The methodology for determination of vulnerability (how you found the weak link) should be discussed in-depth in the application's Narrative Statement.

○ The specific vulnerability (weak link) that will be addressed with the proposed project can be established through a formal or informal Risk Assessment. FEMA encourages the use of local statistics, rather than national statistics, when discussing the vulnerability.

○ The applicant should summarize the vulnerability (weakness) the project will address in a clear, to-the-point statement that addresses who is at risk, what the risks are, where the risks are and how the risks can be prevented.

○ For the purpose of the FY2013 FP&S FOA, formal Risk Assessments consist of the use of software programs or recognized expert analysis that assess risk trends.

○ Informal Risk Assessments could include an in-house review of available data (e.g., NFIRS) to determine fire loss, burn injuries or loss of life over a period of time, and the factors that are the cause and origin for each occurrence.

• Implementation Plan (20%): Projects should provide details on the implementation plan which discusses the proposed project's goals and objectives. The following information should be included to support the implementation plan:

○ Goals and objectives.

○ Details regarding the methods and specific steps that will be used to achieve the goals and objectives.

○ Timelines—place the project steps in the order they will be accomplished.

○ Where applicable, examples of marketing efforts to promote the project, who will deliver the project (e.g., effective partnerships), and the manner in which materials or deliverables will be distributed.

○ Requests for props (i.e., tools used in educational or awareness demonstrations), including specific goals, measurable results, and details on the frequency for which the prop will be utilized as part of the implementation plan. Applicants should include information describing the efforts that will be used to reach the high risk audience and/or the number of people reached through the proposed project (examples of props include safety trailers, puppets, robots, or portable safety houses).

• Evaluation Plan (20%): Projects should include an evaluation of effectiveness and should identify measurable goals. Applicants seeking to carry out awareness and educational projects, for example, should identify how they intend to determine that there has been an increase in knowledge about fire hazards, or measure a change in the safety behaviors of the audience. Applicants should demonstrate how they will measure risk at the outset of the project in comparison to how much the risk decreased after the project is finished. There are various ways to measure the knowledge gained including the use of surveys, pre- and post-tests or documented observations.

• Cost-Benefit (10%): Projects will be evaluated based on how well the applicant addresses the fire prevention needs of the department or organization in an economic and efficient manner. Show how to maximize the level of funding that goes directly into the delivery of the project. The costs associated with the project must also be reasonable for the target audience that will be reached and a description of how the anticipated benefit(s) of their projects outweighs the cost(s) of the requested item(s) should be included. Providing justification for costs assists the Technical Evaluation Panel with this review.

• Sustainability (15%): Each project will also be evaluated to determine whether the overall activity will be sustained (continued) beyond the grant performance period and whether it has a greater potential for long-term benefits. Examples of sustainable projects can be shown through the long-term benefits derived from the delivery of the project, the number of non-Federal partners likely to continue the effort, or the demonstrated long-term commitment of the applicant.

• Financial Need (10%): Applicants should provide details on the need for financial assistance to carry out the proposed project(s). Included in the description might be other unsuccessful attempts to acquire financial assistance or specific examples of the applicant's operational budget.

• Funding Priorities (5%): Applicants will be evaluated on whether or not the proposed project meets the stated funding priority for the applicable category.

○ General Education/Awareness Priority: Comprehensive home fire safety campaign with door-to-door smoke alarm installations.

○ Fire/Arson Investigation Priority: Projects that aim to investigate aggressively every fire.

○ Code Enforcement/Awareness Priority: Projects that focus on first time or reinstatement of code adoption and code enforcement.

○ National/State/Regional Programs and Studies Priority: Projects that focus on residential fire issues and/or firefighter safety projects or strategies that are designed to measureable change firefighter behavior and decision-making.

• Experience and Expertise (additional consideration): Applicants that demonstrate their experience and ability to conduct fire prevention and safety activities, and to execute the proposed or similar project(s), will receive additional consideration.

• Performance (additional consideration): Applicants that have a proven track record for timely project completion and satisfactory performance in other AFG, FP&S, and SAFER Awards will receive additional consideration.

• Meeting the needs of people with disabilities (additional consideration): Applicants in the General Education/Awareness category will receive additional consideration if, as part of their comprehensive smoke alarm installation and education program, they address the needs of people with disabilities (e.g., deaf/hard-of-hearing) in their community.

Evaluation Criteria for Projects—Firefighter Safety Research and Development Activity

Funding decisions will be informed by an assessment of how well the application addresses the criteria and considerations listed below. Applications will be reviewed by a fire service expert panel using weighted evaluation criteria and by a scientific peer review panel evaluation using weighted evaluation criteria to score the project. These scores will impact the ranking of a project for funding. In addition, other Science Panel considerations are indicated in the list below:

Fire Service Evaluation Criteria

• Purpose (25%): Clearly identify the vital firefighter safety and wellness issue(s) addressed by the project proposal that would benefit from additional research to fill in gaps in knowledge.

• Potential Impact (15%): Discuss the potential impact of the research outcome/product on firefighter safety by quantifying the possible reduction in the number of fatal or non-fatal injuries or on wellness by significantly improving the overall health of firefighters.

• Implementation by Fire Service (25%): Discuss how the outcomes/products of this research, if successful, are likely to be widely/nationally adopted and accepted by the fire service as changes that enhance safety and wellness.

• Partners (20%): Describe the fire service partners that will support the project to accomplish the objectives of the study. The specific roles and contributions of the partners to the project should be described. Partnerships may be formed with local and regional fire departments and also with national fire-related organizations. Because grants under the R&D Activity aim to improve the safety, health, and wellness of firefighters, having strong partnerships with the fire service is essential to the likely relevance and effectiveness of the project. Letters of support and letters of commitment to actively participate in the project should be included in the Appendix of the application.

• Barriers (15%): The applicant needs to identify fire service and other potential barriers to the successful completion of the project and strategies to overcome such barriers if they materialize.

Science Panel Evaluation Criteria

• Project goals, objectives, and specific aims (15%): Applicants need to address how the purpose, goals, objectives, and aims of the proposal will lead to results that will improve firefighter safety, health, and wellness. For multi-year projects, greater detail should be given for the first year. Also, describe the specific goals and objectives for the second and third year.

• Literature Review (10%): With reference to the project's goals, objectives, and specific aims, provide a literature review that includes citations in the text and references at the end of the Narrative Statement (and not in the Appendix) of the application. The review should be in sufficient depth to make it clear that the proposed project is necessary, adds to an existing body of knowledge, is different from current and previous studies, and offers a unique contribution.

• Project Methods (20%): This is a description of how the project will be carried out, including demonstration of the overall scientific and technical rigor and merit of the project. This provides the operations to accomplish the purpose, goals and objectives, and the specific aims previously stated. Plans to recruit and retain human subjects, where applicable, should be described. Where human subjects are involved in the project, describe plans for submission to the Institutional Review Board (IRB).

• Project Measurements (15%): Provide evidence of the technical rigor and merit of the project, such as data pertaining to validity, reliability, and sensitivity (where established) of the equipment, instruments, standards, and procedures that will be used to carry out the specific aims previously stated. Data is collected to evaluate the performance of methods, technologies, and products proposed to enhance firefighter safety, health, and wellness. Measurement methods and equipment selected for use should be appropriate and sufficient to the project objectives.

• Project Analysis (10%): Indicate the planned approach for analysis of the data obtained from measurements, questionnaires, or computations. Specify within the plan what will be analyzed, the statistical methods that will be used, the sequence of steps, and interactions as appropriate. It should be clear that the Principal Investigator (PI) and research team have the expertise to perform the planned analysis and defend the results in a peer review process.

• Resources—People and Facilities (15%): Describe the strengths of the PI, the lead scientists, and other staff of the research and development team, especially with regard to similar R&D Activities, studies involving the fire service, and successful completion of prior grant-funded research and development. Also describe the institutional resources (e.g., labs, experimental facilities) to be used to support and carry out the proposed project. Emphasis should be given to unique people and facilities that contribute substantially to the project in addition to past fire service research.

• Dissemination and Implementation (15%): Indicate dissemination plans for scientific audiences (such as plans for submissions to specific peer review publications) and for firefighter audiences (such as via Web sites, magazines, and conferences). Also, assuming positive results and where applicable, indicate future steps that would support dissemination and implementation throughout the fire service. These are likely to be beyond the current study, so those features of the research activity that will facilitate future dissemination and implementation should be discussed. All applicants should specify how the results of the project, if successful, might be disseminated and implemented in the fire service to improve firefighter safety, health, and wellness, especially in the short term. It is expected that successful R&D Activity Projects may give rise to future programs including FP&S Activity Projects.

• Cost vs. Benefit (additional consideration): Cost vs. benefit in this evaluation element refers to the costs of the grant for the research and development project vs. the benefits that are projected for firefighters who would have improved safety, health, and wellness. Projects will be evaluated on the extent to which they demonstrate a high benefit for the cost incurred.

• Financial Need (additional consideration): In the Narrative Statement, applicants should provide details on the need for federal financial assistance to carry out the proposed project(s).

Other Selection Information

Awards will be made using the results of peer-reviewed applications as the primary basis for decisions, regardless of activity. However, there are some exceptions to strictly using the peer review results.

Fire departments and other eligible applicants that have received funding under the FP&S program in previous years are eligible to apply for funding in the current year. However, DHS may take into account an applicant's performance on prior grants when making funding decisions on current applications.

Once every application in the competitive range has been through the technical evaluation phase, the applications will be ranked according to the average score awarded by the panel.

The ranking will be summarized in a Technical Report prepared by the AFG Program Office. A Grants Management Specialist will contact the applicant to discuss and/or negotiate the content of the application and SAM.gov registration before making final award decisions.

Dated: April 11, 2014.
W. Craig Fugate,
Administrator, Federal Emergency Management Agency.

[FR Doc. 2014-09179 Filed 4-21-14; 8:45 am]

BILLING CODE 9111-64-P